NATIONAL SCIENCE FOUNDATION

Advisory Committee for Environmental Research and Education; Notice of Meeting

In accordance with the Federal Advisory Committee Act (Pub. L. 92-463, as amended), the National Science Foundation announces the following meeting:

Name: Advisory Committee for Environmental Research and Education (virtual) (#9487).

Dates: January 20, 2015; 2:00 p.m.-5:00 p.m.

Place: Stafford I, National Science Foundation, 4201 Wilson Blvd., Arlington, Virginia 22230.

Type of Meeting: Open.

Contact Person: Linda Deegan, National Science Foundation, Suite 655, 4201 Wilson Blvd., Arlington, Virginia 22230. Email: ldeegan@nsf.gov.

Minutes: May be obtained from the contact person listed above.

Purpose of Meeting: To provide advice, recommendations, and oversight concerning support for environmental research and education.

Agenda: Discuss development of the Decadal Vision for Environmental Research and Education document.

Dated: November 18, 2014.
Suzanne Plimpton,
Acting Committee Management Officer.

[FR Doc. 2014-27655 Filed 11-21-14; 8:45 am]

BILLING CODE 7555-01-P